DEPARTMENT OF THE INTERIOR

Geological Survey

[GX13NM000HF1000]

Agency Information Collection Activities: Submitted for Office of Management and Budget (OMB) Review; Comment Request

AGENCY: U.S. Geological Survey (USGS).

ACTION: Notice of an extension of a currently approved information collection, 1028-0094.

SUMMARY: To comply with the Paperwork Reduction Act of 1995 (PRA), we are notifying the public that we have submitted to the Office of Management and Budget (OMB) an information collection request (ICR) for approval of the paperwork requirements for the National Coal Resources Data System (NCRDS) competitive cooperative agreement program. This collection is scheduled to expire on January 31, 2013. This notice provides the public an opportunity to comment on the paperwork burden of this project.

DATES: You must submit comments on or before March 4, 2013.

ADDRESSES: Please submit written comments on this information collection directly to the Office of Management and Budget (OMB) Office of Information and Regulatory Affairs, Attention: Desk Officer for the Department of the Interior via email to OIRA_SUBMISSION@omb.eop.gov or fax at 202-395-5806; and identify your submission with Information Collection Number 1028-0094.

Please also submit a copy of your written comments to the USGS Information Collection Clearance Officer, 12201 Sunrise Valley Drive, MS 807, Reston, VA 20192 (mail); (703) 648-7199 (fax); or smbaloch@usgs.gov (email). Please reference information collection 1028-0094. NCRDS in the subject line.

FOR FURTHER INFORMATION PLEASE CONTACT: Joseph East by mail at U.S. Geological Survey, National Center, 12201 Sunrise Valley Drive, Reston, VA 20192 or by telephone at 703-648-6450.

SUPPLEMENTARY INFORMATION:

Abstract

The primary objective of the National Coal Resources Data System (NCRDS) is to advance the understanding of the energy endowment of the United States (U.S.) by gathering and organizing digital geologic information related to coal, coal bed gas, shale gas and other energy resources and related information regarding these resources. These data are needed to support regional or national assessments concerning coal, coal bed gas, and other solid fuel occurrences. Requesting external cooperation is the best way for NCRDS to collect energy data and perform research and analyses on the characterization of coals and organic-rich shale, and obtain other information (including geophysical or seismic data, sample collection for generation of thermal maturity data) that can be used in solid-fuel resource assessments and related studies.

The USGS will issue a call for proposals to support researchers from State Geological Surveys and associated accredited Universities that can provide geologic data to support NCRDS and other energy assessment projects being conducted by the Energy Resources Program.

Data submitted to NCRDS by external cooperators constitute more than two-thirds of the USGS point-source stratigraphic database (USTRAT) on coal occurrence. In 2012, NCRDS supported 30 projects in 23 States. This program is conducted under various authorities, including 30 U.S.C. 208-1, 42 U.S.C. 15801, and 43 U.S.C. 31 et seq. This collection will consist of applications, proposals and reports (annual and final).

I. Data

OMB Control Number: 1028-0094.

Title: Energy Cooperatives to Support the National Coal Resources Data System (NCRDS).

Respondent Obligation: Required to obtain or retain benefits.

Frequency of Collection: One time every 5 years for applications and final reports; annually for progress reports.

Affected Public: Individuals; State, local and tribal governments; State Geological Surveys, universities, and businesses.

Annual burden hours: 300.

Estimated Annual Number of Respondents: 26.

Estimated Annual Number of Responses: 35 (9 applications 26 reports).

Estimated Annual Reporting and Recordkeeping “Non-Hour Cost”: None.

II. Request for Comments

Public Disclosure Statement: The PRA (44 U.S.C. 3501, et seq.) provides that an agency may not conduct or sponsor and you are not required to respond to a collection of information unless it displays a currently valid OMB control number.

On October 12, 2012, we published a Federal Register notice (77 FR 62253) announcing that we would submit this information collection to OMB for approval. The notice provided a 60-day comment period ending on December 10, 2012. We did not receive any comments in response to that notice.

We again invite comments concerning this information collection on: (1) Whether or not the collection of information is necessary, including whether or not the information will have practical utility; (2) the accuracy of our estimate of the burden for this collection of information; (3) ways to enhance the quality, utility, and clarity of the information to be collected; and (4) ways to minimize the burden of the collection of information on respondents.

Please note that the comments submitted in response to this notice are a matter of public record. Before including your address, phone number, email address, or other personal identifying information in your comment, you should be aware that your entire comment, including your personal identifying information, may be made publicly available at any time. While you can ask OMB in your comment to withhold your personal identifying information from public review, we cannot guarantee that it will be done.

Dated: January 23, 2013.
Brenda Pierce,
Program Coordinator, USGS Energy Resources Program.

[FR Doc. 2013-02114 Filed 1-30-13; 8:45 am]

BILLING CODE 4311-AM-P